SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions of OMB-approved information collections and one new information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, OLCA, Attn: Reports Clearance Director, 3100 West High Rise, 6401 Security Blvd., Baltimore, MD 21235, Fax: 410-966-2830, Email address: OR.Reports.Clearance@ssa.gov.

I. The information collections below are pending at SSA. SSA will submit them to OMB within 60 days from the date of this notice. To be sure we consider your comments, we must receive them no later than June 16, 2014. Individuals can obtain copies of the collection instruments by writing to the above email address.

1. National Beneficiary Survey—0960-NEW. SSA is proposing to undertake the National Beneficiary Survey (NBS), a survey intended to gather data from Supplemental Security Income (SSI) recipients and Social Security Disability Insurance (SSDI) beneficiaries about their characteristics, their well-being, and other factors that promote or hinder employment. In particular, the survey seeks to uncover important information about the factors that promote beneficiary self-sufficiency and, conversely, factors that impede beneficiary efforts to maintain employment. We will use this data to improve the administration and effectiveness of the SSDI and SSI programs. These results will be valuable as SSA and other policymakers continue efforts to improve programs and services that help SSDI beneficiaries and SSI recipients become more self-sufficient.

Background

SSDI and SSI programs provide a crucial and necessary safety net for working-age people with disabilities. By improving employment outcomes for SSDI beneficiaries and SSI recipients, SSA supports the effort to reduce the reliance of people with disabilities on these programs. SSA conducted the prior NBS in 2004, 2005, 2006, and 2010, and was an important first step in understanding the work interest and experiences of SSI recipients and SSDI beneficiaries, and in gaining information about their impairments, health, living arrangements, family structure, pre-disability occupation, and use of non-SSA programs (e.g., the Supplemental Nutrition Assistance Program). The prior NBS data is available to researchers and the public.

The National Beneficiary Survey (NBS)

The primary purpose of the new NBS-General Waves is to assess beneficiary well-being and interest in work, learn about beneficiary work experiences (successful and unsuccessful), and identify factors that promote or restrict long-term work success. Information collected in the survey includes factors such as health, living arrangements, family structure, current occupation, use of non-SSA programs, knowledge of SSDI and SSI work incentive programs, obstacles to work, and beneficiary interest and motivation to return to work.

We propose to conduct the first wave of the NBS-General Waves in 2015. We will further conduct subsequent rounds in 2017 (round 2) and 2019 (round 3). The information we will collect is not available from SSA administrative data or other sources. In the NBS-General Waves, the sample design is similar to what we used for the prior NBS. Enhancement of the prior questionnaire includes additional questions on the factors that promote or hinder employment success. We also propose to conduct semi-structured qualitative interviews (in 2015 only) to provide SSA an in-depth understanding of factors that aid or inhibit individuals in their efforts to obtain and retain employment and advance in the workplace. We will use the qualitative data to add context and understanding when interpreting survey results, and to inform the sample and survey design of rounds 2 and 3.

Respondents are current SSDI beneficiaries and SSI recipients. Respondent participation in the NBS is voluntary and the decision to participate or not has no impact on current or future receipt of payments or benefits.

Type of Request: This is a new information collection request.

Administration year | Number of respondents | Frequency of response | Average burden per response (hours) | Estimated total annual burden (hours)
2015 |  |  |  |
Cross-Sectional Samples:
Representative Beneficiary Sample | 4,000 | 1 | .75 | 3,000
Successful Worker Qualitative Interviews | 90 | 1 | 1.00 | 90
Subtotal |  |  |  | 3,090
2017 |  |  |  |
Cross-Sectional Samples:
Representative Beneficiary Sample | 4,000 | 1 | .75 | 3,000
Successful Workers | 4,500 | 1 | .92 | 4,140
Subtotal |  |  |  | 7,140
2019 |  |  |  |
Cross-Sectional Samples:
Representative Beneficiary Sample | 4,000 | 1 | .75 | 3,000
Successful Workers | 3,000 | 1 | .92 | 2,760
Longitudinal Samples:
Successful Workers | 2,250 | 1 | .75 | 1,688
Subtotal |  |  |  | 7,448
Total Burden | 26,550 |  |  | 17,678

2. Marriage Certification—20 CFR 404.725—0960-0009. Sections 202(b) and 202(c) of the Social Security Act (Act) stipulate that every spouse of an individual entitled to Old-Age, Survivors, and Disability Insurance (OASDI) benefits is entitled to a spouse benefit if the wife or husband, in addition to meeting the entitlement requirements, meets the relationship criteria in Section 216(h)(1)(A) and (B). SSA uses Form SSA-3 to determine if a spouse claimant has the necessary relationship to the Social Security number holder (i.e., the worker) to qualify for the worker's OASDI benefits. The respondents are applicants for spouse's OASDI benefits.

Type of Request: Revision of an OMB-approved information collection.

Modality of completion | Number of respondents | Frequency of response | Average burden per response (minutes) | Estimated total annual burden (hours)
SSA-3 | 180,000 | 1 | 5 | 15,000

3. Supplemental Security Income (SSI)—Quality Review Case Analysis—0960-0133. To assess the SSI program and ensure the accuracy of payments, SSA conducts legally mandated periodic SSI case analysis quality reviews. SSA uses Form SSA-8508-BK to conduct these reviews, collecting information on operating efficiency, the quality of underlying policies, and the effect of incorrect payments. SSA also uses the data to determine SSI program payment accuracy rate, which is a performance measure for the agency's service delivery goals. Respondents are recipients of SSI payments selected for quality reviews.

Type of Request: Revision of an OMB approved information collection.

Modality of completion | Number of respondents | Frequency of response | Average burden per response (minutes) | Estimated total annual burden (hours)
SSA-8508-BK (paper interview) | 225 | 1 | 60 | 225
SSA-8508-BK (electronic) | 4,275 | 1 | 60 | 4,275
Total | 4,500 |  |  | 4,500

4. Claimant's Work Background—20 CFR 404.1512(a); 404.1520(a)(4); 404.1565(b); 416.912(a); 416.920(a)(4); 416.965(b)—0960-0300. Sections 205(a) and 1631(e) of the Act provide the Commissioner of Social Security with the authority to establish procedures for determining if a claimant is entitled to disability benefits. The administrative law judge (ALJ) may ask individuals to provide background information on Form HA-4633 about work they performed in the past 15 years. When a claimant requests a hearing before an ALJ to establish an entitlement to disability benefits, the ALJ may request that the claimant provide a work history to assist the ALJ in fully inquiring into statutory issues related to the disability. The ALJ uses the information collected from the claimants on Form HA-4633 to: (1) Identify the claimant's relevant work history; (2) decide if expert vocational testimony is required and, if so, have a vocational expert available to testify during the hearing; and (3) provide a reference for the ALJ to discuss the claimant's work history. The ALJ makes the completed HA-4633 part of the documentary evidence of record. The respondents are claimants for disability benefits under Title II or Title XVI who requested a hearing before an ALJ after SSA denied their application for disability payments.

Type of Request: Revision of an OMB-approved information collection.

Modality of completion | Number of respondents | Frequency of response | Average burden per response (minutes) | Estimated total annual burden (hours)
HA-4633—PDF/paper version | 20,000 | 1 | 15 | 5,000
Electronic Records Express | 180,000 | 1 | 15 | 45,000
Total | 200,000 |  |  | 50,000

II. SSA submitted the information collections below to OMB for clearance. Your comments regarding the information collections would be most useful if OMB and SSA receive them 30 days from the date of this publication. To be sure we consider your comments, we must receive them no later than May 16, 2014. Individuals can obtain copies of the OMB clearance packages by writing to OR.Reports.Clearance@ssa.gov.

1. Statement of Death by Funeral Director—20 CFR 404.715 and 404.720—0960-0142. When an SSA-insured worker dies, the funeral director or funeral home responsible for the worker's burial or cremation completes Form SSA-721 and sends it to SSA. SSA uses this information for three purposes: (1) To establish proof of death for the insured worker; (2) to determine if the insured individual was receiving any pre-death benefits SSA needs to terminate; and (3) to ascertain which surviving family member is eligible for the lump-sum death payment or for other death benefits. The respondents are funeral directors who handled death arrangements for the insured individuals.

Type of Request: Revision of an OMB-approved information collection.

Modality of completion | Number of respondents | Frequency of response | Average burden per response (minutes) | Estimated total annual burden (hours)
SSA-721 | 319,811 | 1 | 4 | 21,321

2. Medicare Income-Related Monthly Adjustment Amount—Life-Changing Event Form—0960-0784. Federally mandated reductions in the Federal Medicare Part B and prescription drug coverage subsidies result in selected Medicare recipients paying higher premiums with income above a specific threshold. The amount of the premium subsidy reduction is an income-related monthly adjustment amount (IRMAA). The Internal Revenue Service (IRS) transmits income tax return data to SSA for SSA to determine the IRMAA. SSA uses the Form SSA-44 to determine if a recipient qualifies for a reduction in the IRMAA. If affected Medicare recipients believe SSA should use more recent tax data because of a life-changing event that significantly reduces their income, they can report these changes to SSA and ask for a new initial determination of their IRMAA. The respondents are Medicare Part B and prescription drug coverage recipients and enrollees with modified adjusted gross income over a high-income threshold who experience one of the eight significant life-changing events.

Type of Request: Revision of an OMB-approved information collection.

Modality of completion | Number of respondents | Frequency of response | Average burden per response (minutes) | Estimated total annual burden (hours)
Personal Interview (SSA field office) | 147,000 | 1 | 30 | 73,500
SSA-44 Paper Form | 39,000 | 1 | 45 | 29,250
Totals | 186,000 |  |  | 102,750

Dated: April 11, 2014.
Faye Lipsky,
Reports Clearance Director, Social Security Administration.

[FR Doc. 2014-08606 Filed 4-15-14; 8:45 am]

BILLING CODE 4191-02-P